DEPARTMENT OF COMMERCE

National Oceanic and Atmospheric Administration

RIN: 0648-XP32

South Atlantic Fishery Management Council; Public Meetings; Correction

AGENCY: National Marine Fisheries Service (NMFS), National Oceanic and Atmospheric Administration (NOAA), Commerce.

ACTION: Notice of correction to a public meeting notice.

SUMMARY: Update to the South Atlantic Fishery Management Council's (Council) meeting of its Scientific and Statistical Committee (SSC). See SUPPLEMENTARY INFORMATION for additional details.

DATES: The meeting will be held June 7-12, 2009. See SUPPLEMENTARY INFORMATION for specific dates and times. (Note that these are the dates for the SAFMC meeting. The SSC meeting dates are listed below in the SUPPLEMENTARY INFORMATION.)

ADDRESSES: The Council meeting will be held at the Hutchinson Island Marriott, 555 NE Ocean Boulevard, Stuart, FL 34996; telephone: (800) 775-5936 or (772) 225-3700; fax: (772) 225-0003. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866) SAFMC-10; fax: (843) 769-4520; email: kim.iverson@safmc.net.

SUPPLEMENTARY INFORMATION: The original notice published in the Federal Register on May 18, 2008, 74 FR 23173. The following addition has been added to the agenda of the Scientific and Statistical Committee meeting. Except for the addition, all other previously-published information remains unchanged.

1. Scientific and Statistical Committee: June 7, 2009, 1:30 p.m. until 5 p.m.; June 8, 2009, 8:30 a.m. until 5 p.m.; and June 9, 2009, 8:30 a.m. until 5 p.m.

In addition to agenda items noted in a previous Notice, the SSC will also review an Independent Report on Red Snapper in the Southeast Data, Assessment, and Review (SEDAR) 15 stock assessment.

Documents regarding these issues are available from the Council office (see ADDRESSES).

Although non-emergency issues not contained in this agenda may come before this Council for discussion, those issues may not be the subjects of formal final Council action during this meeting. Council action will be restricted to those issues specifically listed in this notice and any issues arising after publication of this notice that require emergency action under section 305(c) of the Magnuson-Stevens Act, provided the public has been notified of the Council's intent to take final action to address the emergency.

Except for advertised (scheduled) public hearings and public comment, the times and sequence specified on this agenda are subject to change.

Special Accommodations

These meetings are physically accessible to people with disabilities. Requests for sign language interpretation or other auxiliary aids should be directed to the Council office (see ADDRESSES) by June 4, 2009.

Dated: May 19, 2009.
Tracey L. Thompson,
Acting Director, Office of Sustainable Fisheries, National Marine Fisheries Service.

[FR Doc. E9-12035 Filed 5-22-09; 8:45 am]

BILLING CODE 3510-22-S